ENVIRONMENTAL PROTECTION AGENCY

[FRL-9164-8]

Informational Public Meetings for Hydraulic Fracturing Research Study

AGENCY: Environmental Protection Agency (EPA).

ACTION: Notice.

SUMMARY: The Environmental Protection Agency (EPA or Agency) is announcing four (4) public informational meetings to explain its proposed plan to study the relationship between hydraulic fracturing and drinking water. The meetings are open to all interested parties and will be held in Fort Worth, Texas; Denver, Colorado; Canonsburg, Pennsylvania; and Binghamton, New York. EPA will provide the public with information about the Agency's preliminary plans for study scope and design, and EPA will receive public comments on the preliminary plans during the meetings.

DATES: The Hydraulic Fracturing Study informational meetings are as follows: July 8, 2010, from 6 p.m. to 10 p.m., c.d.t., in Fort Worth Texas; July 13, 2010, from 6 p.m. to 10 p.m., m.d.t., in Denver, Colorado; July 22, 2010, from 6 p.m. to 10 p.m., e.d.t. in Canonsburg, Pennsylvania; and three (3) meetings on August 12, 2010, from 8 a.m. to 12 p.m., 1 p.m. to 5 p.m., and 6 p.m. to 10 p.m., e.d.t., in Binghamton, New York.

Stakeholders are requested to pre-register for the meetings at least 72 hours before each meeting at the following Web site: http://hfmeeting.cadmusweb.com.

FOR FURTHER INFORMATION CONTACT: Jill Dean, Office of Groundwater and Drinking Water, Environmental Protection Agency, 1200 Pennsylvania Ave., NW., Mailcode 4606M, Washington, DC 20460; telephone number: 202-564-8241; e-mail address: dean.jill@epa.gov.

ADDRESSES: The Hydraulic Fracturing Study informational meetings will be held as follows: On July 8, 2010, at the Hilton Fort Worth in Fort Worth, Texas; on July 13, 2010, at the Marriot Tech Center's Rocky Mountain Events Center in Denver, Colorado; on July 22, 2010, at the Hilton Garden Inn in Canonsburg, PA; and on August 12, 2010, at the Anderson Performing Arts Center at Binghamton University in Binghamton, New York. More specific information regarding the public meetings such as addresses for the meeting locations and agendas will be provided on the EPA Hydraulic Fracturing Web site at http://www.epa.gov/safewater/_safewater/uic/wells_hydrofrac.html.

SUPPLEMENTARY INFORMATION: EPA is hosting four (4) informational meetings related to the Agency's proposed Hydraulic Fracturing Research Study. The meetings are open to the public and all interested stakeholders are invited to attend. Presentations by EPA will be limited to study planning and will not include discussions on hydraulic fracturing policy or past EPA studies.

Persons wishing to contribute comments to EPA regarding the proposed Hydraulic Fracturing Research Study may: (1) Present oral comments at the informational meeting; (2) submit written comments at the informational meeting; (3) send written comments to EPA using the contact information listed in the FOR FURTHER INFORMATION CONTACT section; or (4) submit electronic comments to EPA at hydraulic.fracturing@epa.gov.

The meetings will begin with brief presentations by the EPA Office of Research and Development on hydraulic fracturing, potential study plan components, and proposed criteria for selecting case study locations. The oral comment session will begin after the presentations, and oral comments will be limited to two (2) minutes each. Written comments may be sent to hydraulic.fracturing@epa.gov up to fourteen (14) days after each meeting. Information on hydraulic fracturing, updates on the Study progress, and stakeholder engagement events will be posted to the following EPA Web site: http://www.epa.gov/safewater/uic/wells_hydrofrac.html.

Stakeholders interested in attending the meetings are invited to pre-register at the following Web site: http://hfmeeting.cadmusweb.com, at least three (3) days in advance. Pre-registering for the meeting will allow EPA to improve meeting planning. Registered attendees requesting to make an oral presentation will be placed on the commenting schedule and receive a time slot in which to give comments. Time slots are limited and will be filled on a first come first served basis.

Special Accommodations: Any person needing special accommodations at the public meetings, including wheelchair access or sign language translator, should contact Jill Dean by phone at (202) 564-8241, by e-mail at dean.jill@epa.gov or by mail at: Jill Dean, U.S. Environmental Protection Agency, Mail Code 4606M, 1200 Pennsylvania Ave., NW., Washington, DC 20460. Requests for special accommodations should be made at least five business days in advance of the meeting.

Dated: June 15, 2010.
Cynthia C. Dougherty,
Director, Office of Groundwater and Drinking Water.

[FR Doc. 2010-14897 Filed 6-18-10; 8:45 am]

BILLING CODE 6560-50-P